DEPARTMENT OF THE INTERIOR

National Park Service

[NPS-MWR-CR-12046; PPMWUGRR00, PPMRSCR1Y.CU0000]

Information Collection Request Sent to the Office of Management and Budget (OMB) for Approval; National Underground Railroad Network to Freedom Program

AGENCY: National Park Service, Interior.

ACTION: Notice; request for comments.

SUMMARY: We (National Park Service) have sent an Information Collection Request (ICR) to OMB for review and approval. We summarize the ICR below and describe the nature of the collection and the estimated burden and cost. This information collection is scheduled to expire on May 31, 2013. We may not conduct or sponsor and a person is not required to respond to a collection of information unless it displays a currently valid OMB control number. However, under OMB regulations, we may continue to conduct or sponsor this information collection while it is pending at OMB.

DATES: You must submit comments on or before June 20, 2013.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 1201 I Street NW., MS 1237, Washington, DC 20005 (mail); or madonna_baucum@nps.gov (email). Please include “1024-0232” in the subject line of your comments.

FOR FURTHER INFORMATION CONTACT: To request additional information about this ICR, contact Diane Miller, National Manager, National Underground Railroad Network to Freedom Program, National Park Service, Midwest Regional Office, 601 Riverfront Drive, Omaha, Nebraska 68102; via fax at (402) 661-1982; or via email at diane_miller@nps.gov. You may review the ICR online at http://www.reginfo.gov. Follow the instructions to review Department of the Interior collections under review by OMB.

SUPPLEMENTARY INFORMATION: OMB Control Number: 1024-0232.

Title: National Underground Railroad Network to Freedom Program.

Service Form Number(s): None.

Type of Request: Revision of a currently approved collection.

Description of Respondents: Individuals; businesses; nonprofit organizations; and Federal, State, tribal, and local governments.

Respondent's Obligation: Required to obtain or retain a benefit.

Frequency of Collection: On occasion.

Activity | Number of respondents | Number of responses | Completion time per response (hours) | Total annyal burden hours
Network Applications | 35 | 35 | 25 | 875
Partner Requests | 2 | 2 | .5 | 1
Totals | 37 | 37 | 26 | 876

Estimated Annual Nonhour Burden Cost: None.

Abstract: Public Law 105-203 (National Underground Railroad Network to Freedom Act of 1998) authorizes the Secretary of the Interior to establish the Network to Freedom (Network). The Network is a collection of sites, facilities, and programs, both governmental and nongovernmental, around the United States. All entities must have a verifiable association with the historic Underground Railroad movement. The National Park Service administers the National Underground Railroad Network to Freedom Program. The program coordinates preservation and education efforts Nationwide and integrates local historical places, museums, and interpretive programs associated with the Underground Railroad into a mosaic of community, regional, and national stories.

Individuals; businesses; organizations; State, tribal and local governments; and Federal agencies that want to join the Network must complete an application form. The application and instructions are available on our Web site at http://www.nps.gov/subjects/ugrr/index.htm. Respondents must (1) verify associations and characteristics through descriptive texts that are the result of historical research and (2) submit supporting documentation; e.g., copies of rare documents, photographs, and maps. Much of the information is submitted in electronic format, but, at the present time, there is no automated way to gather all of the required information. We use the information collected to determine eligibility to become part of the Network.

In reviewing this IC for renewal, we discovered an information collection requirement not previously approved by OMB. One of the principal components of the Network to Freedom Program is to validate the efforts of local and regional organizations, and to make it easier for them to share expertise and communicate with us and each other. The vehicle through which this can happen is for these local entities to become Network Partners. Partners of the Network to Freedom Program work alongside and often in cooperation with us to fulfill the program's mission. Prospective partners must submit a letter with the following information:

• Name and address of the agency, company or organization;

• Name, address, and phone, fax, and email information of principal contact;

• Abstract not to exceed 200 words describing the partner's activity or mission statement; and

• Brief description of the entity's association to the Underground Railroad.

Comments: On November 16, 2012, we published in the Federal Register (77 FR 68817) a notice of our intent to request that OMB renew approval for this information collection. In that notice, we solicited comments for 60 days, ending on January 15, 2013. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: May 15, 2013.
Madonna L. Baucum,
Information Collection Clearance Officer, National Park Service.

[FR Doc. 2013-12075 Filed 5-20-13; 8:45 am]

BILLING CODE 4310-EH-P